FEDERAL COMMUNICATIONS COMMISSION

47 CFR Part 15

[ET Docket No. 03-104; FCC 03-100]

Broadband Power Line Systems

AGENCY: Federal Communications Commission.

ACTION: Proposed rule; correction.

SUMMARY: On May 23, 2003 (68 FR 28182), the Commission published proposed rules in the Federal Register, which requested comments from the public on the current state of Broadband Power Line technology. This document contains a correction to the comments and reply comments date of the rules which was inadvertently published incorrectly.

DATES: Written comments are due on or before July 7, 2003, and reply comments are due on or before August 6, 2003.

FOR FURTHER INFORMATION CONTACT: Anh Wride, Office of Engineering and Technology, (202) 418-0577, TTY (202) 418-2989, e-mail: awride@fcc.gov.

SUPPLEMENTARY INFORMATION: The Federal Communications Commission published a document proposing to amend part 15 in the Federal Register of May 23, 2003, (68 FR 28182). This document corrects the Federal Register as it appeared. In FR Doc. 03-12914 published on May 23, 2003 (68 FR 28182), the Commission is correcting the “DATES: Written comments are due on or before August 6, 2003, and reply comments are due on or before September 5, 2003”, of the Commission's rules to reflect the correct “DATES: Written comments are due on or before July 7, 2003, and reply comments are due on or before August 6, 2003”. In rule FR Doc. 02-12914 published on May 23, 2003 (68 FR 28182) make the following correction:

On page 28182, in the second column correct “DATES: Written comments are due on or before August 6, 2003, and reply comments are due on or before September 5, 2003”, to read as “DATES: Written comments are due on or before July 7, 2003, and reply comments are due on or before August 6, 2003”.

Federal Communications Commission.
Marlene H. Dortch,
Secretary.

[FR Doc. 03-13590 Filed 5-30-03; 8:45 am]

BILLING CODE 6712-01-P